NATIONAL AERONAUTICS AND SPACE ADMINISTRATION

[Notice (02-116)]

Government-Owned Inventions, Available for Licensing

ACTION: Notice of availability of inventions for licensing.

SUMMARY: The inventions listed below are assigned to the National Aeronautics and Space Administration, have been filed in the United States Patent and Trademark Office, and are available for licensing.

DATES: September 27, 2002.

FOR FURTHER INFORMATION CONTACT: Rob Padilla, Patent Counsel, Ames Research Center, Mail Code 202A-4, Moffett Field, CA 94035-1000; telephone (650) 604-5104, fax (650) 604-2767.

NASA Case No. ARC-14612-1: Wire Insulation Defect Detector;

NASA Case No. ARC-14586-1: A Hybrid Neural Network And Support Vector Machine Method For Optimization;

NASA Case No. ARC-14613-1: Controlled Patterning And Growth Of Single Wall And Multi-Wall Carbon Nanotubes;

NASA Case No. ARC-14638-1: Diffraction-Based Optical Switch;

NASA Case No. ARC-14577-1: Wide Operational Range Thermal Sensor;

NASA Case No. ARC-14606-1: Method And System For Active Noise Control Of Tiltrotor Aircraft;

NASA Case No. ARC-14682-1: Ultrafast Laser Beam Switching And Pulse Train Generation By Using Coupled Vertical-Cavity, SurfaceEmitting Lasers (VCSELs);

NASA Case No. ARC-14733-1: An Environmentally Compatible Method To Purify Carbon Nanotubes.

NASA Case No. ARC-14941-1: Carbon Nanotubes As A Prototype Interface For Retinal Cell Recording And Stimulation (Vision Chip);

NASA Case No. ARC-14554-1: Neighboring Optimal Aircraft Guidance In A General Wind Environment.

Dated: September 20, 2002.
Robert M. Stephens,
Deputy General Counsel.

[FR Doc. 02-24525 Filed 9-26-02; 8:45 am]

BILLING CODE 7510-01-P